ENVIRONMENTAL PROTECTION AGENCY

[OPPT-2004-0084; FRL-7361-4]

Establishment of the Endocrine Disruptor Methods Validation Advisory Committee

AGENCY: Environmental Protection Agency (EPA).

ACTION: Establishment of Federal Advisory Committee Act Committee.

SUMMARY: As required by section 9(a)(2) of the Federal Advisory Committee Act (5 U.S.C. App. 2 section 9(a)(2)), we are giving notice that EPA is establishing the Endocrine Disruptor Methods Validation Advisory Committee (EDMVAC). The purpose of this Committee is to provide a forum for a diverse group of individuals representing a broad range of interests and scientific expertise. It will provide advice to the Agency on matters related to the validation of assays under consideration by the Endocrine Disruptor Screening Program (EDSP). The Committee will analyze relevant scientific issues, protocols, review data and interpretations of data for the assays. The major objective of the Committee is to provide advice and recommendations to the EPA Administrator on scientific and technical aspects of the assays as they progress through the validation process. EPA has determined that this advisory committee is in the public interest and will assist the Agency in performing its duties as prescribed by the Food Quality Protection Act of 1996. Copies of the Committee Charter will be filed with the appropriate congressional committees and the Library of Congress.

FOR FURTHER INFORMATION CONTACT: For general information contact: Colby Lintner, Regulatory Coordinator, Environmental Assistance Division (7404M), Office of Pollution Prevention and Toxics, Environmental Protection Agency, 1200 Pennsylvania Ave., NW., Washington, DC 20460; telephone number: (202) 564-1404; e-mail address: TSCA-Hotline@epa.gov.

For technical information contact: Jane Smith, Designated Federal Official, Office of Science Coordination and Policy (7201M), Environmental Protection Agency, 1200 Pennsylvania Ave., NW., Washington, DC 20460; telephone number: (202) 564-8476, fax: (202) 564-8283; e-mail address: smith.jane-scott@epa.gov.

SUPPLEMENTARY INFORMATION:

I. Does this Action Apply to Me?

This action is directed to the public in general. You may be interested in the establishment of the committee set forth in this notice if you are a member of an environmental/public interest organization, a public health organization, an animal welfare organization, academia or Federal agencies, state, local, or tribal governments. You also may be interested in activities of EPA's EDSP if you produce, manufacture, use, consume, work with, or import pesticides or other chemicals. Since other entities may also be interested, the Agency has not attempted to describe all the specific entities that may be affected by this action. If you have any questions regarding this action, please contact the technical person listed under FOR FURTHER INFORMATION CONTACT.

II. How Can I Get Additional Information, Including Copies of this Document or Other Related Documents?

1. Electronically. You may access this Federal Register document electronically through the EPA Internet site under the “Federal Register” listings at http://www.epa.gov/fedrgstr/.

Information about the former Endocrine Disruptor Methods Validation Subcommittee, the Endocrine Disruptor Screening Program and related programs is available from http://www.epa.gov/scipoly/oscpendo/.

EPA has established an official public docket for the EDMVAC under docket identification (ID) number OPPT-2004-0084. The official public docket consists of the documents related to the activities of the committee and any public comments received. Although a part of the official docket, the public docket does not include Confidential Business Information (CBI) or other information whose disclosure is restricted by statute.

An electronic version of the public docket is available through EPA's electronic public docket and comment system, EPA Dockets. You may use EPA Dockets at http://www.epa.gov/edocket/ to access the index listing of the contents of the official public docket, and to access those documents in the public docket that are available electronically. Although not all docket materials may be available electronically, you may still access any of the publicly available docket materials through the docket facility identified in Unit II.2. Once in the system, select “search,” then key in the appropriate docket ID number.

2. In person. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in the EPA Docket Center, is (202) 566-0272.

3. By mail. You may obtain copies of this document and other related documents from the technical contact person listed under FOR FURTHER INFORMATION CONTACT.

List of Subjects

Environmental protection, Endocrine disruptors, Endocrine Disruptor Screening Program, Endocrine Disrupor Methods Validation Advisory Committee.

Dated: May 18, 2004.
Susan B. Hazen,
Assistant Administrator, Office of Prevention, Pesticides and Toxic Substances.

[FR Doc. 04-12419 Filed 6-1-04; 8:45 am]

BILLING CODE 6560-50-S